DEPARTMENT OF HEALTH AND HUMAN SERVICES

National Institutes of Health

Office of the Secretary Notice of Meeting

Pursuant to section 10(a) of the Federal Advisory Committee Act, as amended, notice is hereby given of a meeting of the Task Force on Research Specific to Pregnant Women and Lactating Women.

The meeting will be open to the public, with attendance limited to space available. Individuals who plan to attend and need special assistance, such as sign language interpretation or other reasonable accommodations, should notify the Contact Person listed below in advance of the meeting.

Name of Committee: Task Force on Research Specific to Pregnant Women and Lactating Women.

Date: February 3, 2020.

Time: 8:30 a.m. to 4:45 p.m.

Agenda: The Task Force is charged with providing advice and guidance to the Secretary of HHS, regarding Federal activities related to identifying and addressing gaps in knowledge and research regarding safe and effective therapies for pregnant women and lactating women, including the development of such therapies and the collaboration on and coordination of such activities.

8:00 a.m. Registration

8:30 a.m.-4:45 p.m. Open Session

Place: NICHD Offices, Multipurpose Room 1425/1427 (1st Floor), 6710B Rockledge Drive, Bethesda, MD 20892.

Contact Person: Lisa Kaeser, Executive Secretary, Office of Legislation and Public Policy, Eunice Kennedy Shriver, National Institute of Child Health and Human Development, Bethesda, MD 20892, (301) 496-0536, kaeserl@mail.nih.gov.

Public comments are welcome either by filing written comments in advance and/or providing oral comments at the meeting. Written comments to be included at the meeting should be sent to Lisa Kaeser by 5:00 p.m. on Friday, January 24, 2020. Brief oral comments from the public may occur during the discussion periods following each of the four working group presentations.

In the interest of security, NIH has instituted stringent procedures for entrance onto NIH federal property. Visitors will be asked to show one form of identification (for example, a government-issued photo ID, driver's license, or passport) and to state the purpose of their visit.

Details and additional information about this meeting, prior meetings, and the Task Force's 2018 Report and Recommendations can be found at the NICHD website for the Task Force on Research Specific to Pregnant Women and Lactating Women (PRGLAC): https://www.nichd.nih.gov/about/advisory/PRGLAC/Pages/index.aspx Presentations made during the meeting and any written comments will be formatted to be posted on the PRGLAC website for the record.

Registration Link: http://tiny.cc/PRGLAC0220.

Please note: This meeting will be available through NIH Videocast. If you are planning on watching the videocast remotely, please select this option on the registration form.

Dated: December 23, 2019.
Ronald J. Livingston, Jr.,
Program Analyst, Office of Federal Advisory Committee Policy.

[FR Doc. 2019-28156 Filed 12-27-19; 8:45 am]

BILLING CODE 4140-01-P